FEDERAL COMMUNICATIONS COMMISSION

Notice of Public Information Collection(s) Being Reviewed by the Federal Communications Commission, Comments Requested

August 26, 2004.

SUMMARY: The Federal Communications Commission, as part of its continuing effort to reduce paperwork burden invites the general public and other Federal agencies to take this opportunity to comment on the following information collection(s), as required by the Paperwork Reduction Act (PRA) of 1995, Public Law No. 104-13. An agency may not conduct or sponsor a collection of information unless it displays a currently valid control number. No person shall be subject to any penalty for failing to comply with a collection of information subject to the Paperwork Reduction Act that does not display a valid control number. Comments are requested concerning (a) whether the proposed collection of information is necessary for the proper performance of the functions of the Commission, including whether the information shall have practical utility; (b) the accuracy of the Commission's burden estimate; (c) ways to enhance the quality, utility, and clarity of the information collected; and (d) ways to minimize the burden of the collection of information on the respondents, including the use of automated collection techniques or other forms of information technology.

DATES: Written Paperwork Reduction Act (PRA) comments should be submitted on or before November 1, 2004. If you anticipate that you will be submitting comments, but find it difficult to do so within the period of time allowed by this notice, you should advise the contact listed below as soon as possible.

ADDRESSES: Direct all Paperwork Reduction Act (PRA) comments to Les Smith, Federal Communications Commission, Room 1-A804, 445 12th Street, SW., Washington, DC 20554 or via the Internet to Leslie.Smith@fcc.gov.

FOR FURTHER INFORMATION CONTACT: For additional information or copies of the information collection(s), contact Les Smith at (202) 418-0217 or via the Internet at Leslie.Smith@fcc.gov.

SUPPLEMENTARY INFORMATION: OMB Control Number: 3060-0647.

Title: Annual Survey of Cable Industry Prices.

Form Number: N/A.

Type of Review: Extension of a currently approved collection.

Respondents: Business or other for-profit entities.

Number of Respondents: 760.

Estimated Time per Response: 7 hours.

Frequency of Response: Annual reporting requirement.

Total Annual Burden: 5,320 hours.

Total Annual Cost: None.

Privacy Impact Assessment: No impact(s).

Needs and Uses: Section 623(k) of the Cable Television Consumer Protection and Competition Act of 1992 requires the Commission to publish an annual statistical report on average rates for basic cable service, cable programming and equipment. The report must compare the prices charged by cable systems subject to effective competition and those not subject to effective competition. The annual Price Survey is used to collect the data needed to prepare this report.

OMB Control Number: 3060-XXXX.

Title: Section 15.240, Radio Frequency Identification Equipment.

Form Number: N/A.

Respondents: Not-for-profit institutions; Business or other for-profit entities; and State, Local, or Tribal Governments.

Number of Respondents: 10.

Estimated Time per Response: 2 hours.

Frequency of Response: On occasion reporting requirement; Third party disclosure.

Total Annual Burden: 200 hours.

Total Estimated Annual Cost: $3,000.

Privacy Act Impact Assessment: No Impact(s).

Needs and Uses: On April 15, 2004, the FCC adopted a Third Report and Order, In the Matter of Review of Part 15 and other Parts of the Commission's Rules, ET Docket No. 01-278, RM-9375, RM-10051, FCC 04-98, see 69 FR 29459 (May 24, 2004). The Third Report and Order requires each grantee of certification for Radio Frequency Identification (RFID) Equipment to register the location of the equipment/devices it markets with the Commission. The information the grantee must supply to the Commission when registering the devices shall include the name, address and other pertinent contact information of users, the geographic coordinates of the operating location, and the FCC identification number(s) of the equipment. The improved RFID equipment can benefit commercial shippers and have significant homeland security benefits by enabling the entire contents of shipping containers to be easily and immediately identified and by allowing a determination of whether tampering with their contents has occurred during shipping.

Federal Communications Commission.
Marlene H. Dortch,
Secretary.

[FR Doc. 04-19949 Filed 8-31-04; 8:45 am]

BILLING CODE 6712-10-P